DEPARTMENT OF THE INTERIOR

Bureau of Land Management

[LLMTC01000-L10600000-MC0000MO# 4500155770]

Notice of Intent To Amend the Billings Field Office 2015 Resource Management Plan and To Prepare an Associated Environmental Assessment, Montana

AGENCY: Bureau of Land Management, Interior.

ACTION: Notice of intent.

SUMMARY: In compliance with the National Environmental Policy Act of 1969, as amended (NEPA), and the Federal Land Policy and Management Act of 1976, as amended (FLPMA), the Bureau of Land Management (BLM) Billings Field Office, Billings, Montana, intends to prepare an amendment to the Billings Field Office Resource Management Plan (RMP) and an associated Environmental Assessment (EA). The EA will analyze a proposed change to the RMP's Management Decision Wild Horse (MD WH-7) with respect to managing genetic diversity in the Pryor Mountain Wild Horse herd. This notice initiates the EA scoping process for the RMP amendment to solicit public comments and identify issues and announces the opportunity for public review of the planning criteria.

DATES: In order to be included in the analysis, all comments must be received electronically or in writing no later than April 29, 2022. The BLM does not plan to hold any scoping meetings for this RMP amendment. We will provide additional opportunities for public participation as appropriate.

ADDRESSES: Comments may be submitted electronically through the BLM e-planning website at https://eplanning.blm.gov/eplanning-ui/project/1502632/510, or written comments may be sent to Wild Horse & Burro Coordinator, Billings Field Office, Bureau of Land Management, 5001 Southgate Drive, Billings, MT 59101.

FOR FURTHER INFORMATION CONTACT: Dave LeFevre, telephone 406-896-5349, or email dlefevre@blm.gov. Persons who use a telecommunications device for the deaf (TDD) may call the Federal Relay Service (FRS) at 1-800-877-8339 to contact Mr. LeFevre during normal business hours. The FRS is available 24 hours a day, 7 days a week, to leave a message or question. You will receive a reply during normal business hours. Normal business hours are 8:00 a.m. to 4:30 p.m., Monday through Friday, except for Federal holidays.

SUPPLEMENTARY INFORMATION: This document provides notice that the BLM Billings Field Office, Billings, MT, intends to amend the Billings Field Office RMP and prepare an associated EA, announces the proposed plan amendment scoping process, and seeks public input on issues and planning criteria. Planning criteria help define decision space and are based upon applicable laws, Director and State Director guidance, and the results of public and governmental participation (43 CFR 1610.4-2). The draft planning criteria considered in the development of the proposed amendment include:

(1) The proposed amendment will be completed in compliance with NEPA, FLPMA, the Wild Free-Roaming Horses and Burro Act, as amended, and the implementing regulations in 43 CFR 1700, BLM Wild Horses and Burros Management Handbook H-1700-1, and other applicable laws, regulations, and policy.

(2) The proposed amendment is limited to MD WH-7 and would not change any other existing planning decisions in the Billings Field Office RMP.

(3) The proposed amendment would only apply to lands and resources managed by the BLM as described in the 2015 Billings Field Office RMP; it would not change management direction for other agencies.

(4) Decisions are compatible with existing plans and policies of adjacent local, State, Federal, and Tribal agencies, so long as the decisions are consistent with the purposes, policies, and programs of Federal law and regulations applicable to public lands.

The Pryor Mountain Wild Horse Range is located in the Pryor Mountains in southeastern Carbon County, Montana, and northern Big Horn County, Wyoming, and encompasses approximately 38,000 acres of land.

In 2009, the BLM approved the Pryor Mountain Wild Horse Range/Territory Herd Management Area Plan (HMAP) that identified management objectives for the Pryor Mountain wild horses and horse range. The 2009 HMAP managed the Pryor Mountain wild horses for a phenotype animal reminiscent of a “Colonial Spanish Mustang” as described by “Sponenberg North American Colonial Spanish Horses” while balancing colors, sex ratios, and age structures.

In 2015, the BLM approved a new RMP for the Billings Field Office. That RMP at MD WH-2 provides direction for the BLM to “Maintain a wild horse herd that exhibits a diverse age structure, genetic diversity, and any characteristics unique to the Pryor horses.” Additionally, MD WH-7 states that “Within an HMAP, herd structure will be managed for all representations in the herd, not allowing specific colors or bloodlines to dominate from management manipulation.” However, the 2015 RMP does not define “all representations” in the herd, and the wording is ambiguous.

In the 2015 RMP, it is evident that the intent of MD WH-7 was to limit the loss of genetic diversity, consistent with Goal WH-2 (“Maintain a wild horse herd that exhibits a diverse age structure, genetic diversity, and any characteristics unique to the Pryor horses.”). However, maximizing genetic diversity at the expense of ecosystem sustainability is not a management goal or directive for the herd.

An interpretation that every possible crossing of any given mare and any given stallion should leave a surviving foal (i.e., a “representation” of the bloodline from that particular crossing) is not practical to implement for several reasons. If foals from every possible pairing of any stallion and any mare are interpreted to be a “representation,” then that precludes removal of any animal unless it has full siblings. However, because individual stallions sire offspring with multiple mares, and individual mares may mate with multiple stallions, there would be an ever-increasing number of “representations” in the herd. Because the population recruitment rate far exceeds the death rate, not removing “representations” without full siblings would result in unsustainable population growth. Under this scenario, Appropriate Management Level would be mathematically impossible to achieve.

Other impracticalities exist as well. The BLM cannot cause all patrilineal or matrilineal lines to be propagated. When considering patrilineal lines, not all stallions get to reproduce; breeding is often limited to the band stallion, and some horses may forever remain a bachelor stallion. There are also practical matters related to the well-being of animals that are removed from the wild. Wild horse adoption programs tend to place animals into homes more readily with younger horses as they are more adoptable and transition more readily to domestic life compared to an older horse. However, when young horses are gathered and removed from the range, many of them will not have reached maturity and produced an offspring.

The BLM proposes to amend MD WH-7 to make it consistent with RMP Goal WH2 to maintain genetic diversity and to align with management guidance in the BLM Wild Horse and Burro Handbook H-4700-1 for maintaining desirable genetic diversity (avoiding inbreeding depression). Specifically, the BLM proposes to amend the RMP to modify MD WH-7 as stated below:

“MD WH-7 (Proposed Amendment): Maintain desirable levels of genetic diversity, as measured by Observed Heterozygosity (Ho). Observed heterozygosity is a measure of how much diversity is found, on average, within individual animals in the Herd Management Area (HMA). If Ho drops below thresholds identified in the BLM Wild Horse and Burro Handbook H-4700-1, then BLM would take one or any combination of the following actions to reduce the possible risks associated with inbreeding depression:

(1) Maximize the number of fertile, breeding age wild horses (6-10 years) within the herd;

(2) adjust the sex ratio in favor of males (but with not more than approximately 60 percent males); or

(3) introduce mares or stallions from other wild horse HMAs. Prioritize introductions from herds with characteristics similar to the Pryor Mountain horses, such as the Sulfur herd in Utah, the Cerbat Mountain herd in Arizona, or others.”

BLM Handbook H-4700-1 guidance notes that herds with observed heterozygosity values that are one standard deviation below the mean are considered at critical risk. Hair samples last collected from the Pryor Mountain herd in February 2013 indicated that values for observed heterozygosity were above the mean for feral horse herds at that time. The BLM would continue to collect genetic samples to monitor genetic diversity. The results of current and future genetic monitoring efforts, along with previous monitoring results, would indicate if loss of genetic diversity is a concern and if any of the management actions as noted in the proposed amendment would need to be taken.

Maintaining desirable levels of genetic diversity would also assure a variety of colors are maintained in the Pryor Mountain horse herd. Pryor Mountain horses exhibit a variety of colors, with common colors including dun, grulla, bay, black, and roan. Less common colors that appear in the herd include red or apricot dun, chestnut, sorrel, palomino, and buckskin. Color is a phenotypic representation of dominant or recessive genes passed through generations. A horse that is a rare color may not produce offspring that are also a rare color. BLM is proposing to revise MD WH-7 to address genetic diversity in a manner that is consistent with the Wild Horse and Burro Handbook, but consideration of color would be addressed through MD WH-2 (characteristics unique to the Pryors) and Selective Removal Criteria.

Supplemental information on the proposed plan amendment is available on BLM's e-Planning website at the project link noted earlier in the ADDRESSES section. The BLM will prepare an EA to consider the proposed plan amendment as well as revisions to the 2009 HMAP including objectives for fertility control, gather criteria, and rangeland and riparian management (the public comment period for scoping the HMAP revisions is closed, and previously submitted comments regarding the HMAP revisions do not need to be re-submitted). The proposed plan amendment is limited to proposed changes to MD WH-7 that would replace direction to manage for “all representations in the herd” with direction to maintain desirable levels of genetic diversity to reduce the possible risks associated with inbreeding depression.

You may submit comments electronically or in writing on the proposed amendment to the BLM as shown in the ADDRESSES section earlier. If you already submitted scoping comments on proposed revisions to the HMAP EA, including any comments related to the Appropriate Management Level, management objectives for the wild horse population, including fertility control and gather criteria, and management objectives for the Pryor Horse Range, during the comment period that ran from April 9, 2020, through May 15, 2020, you do not need to re-submit your comments.

Before including your address, phone number, email address, or other personal identifying information in your comment, you should be aware that your entire comment, including your personal identifying information, may be made publicly available at any time. While you can ask us in your comment to withhold your personal identifying information from public review, we cannot guarantee that we will be able to do so.

The BLM will work collaboratively with interested parties to identify the management decisions that are best suited to local, regional, and national needs and concerns.

(Authority: 40 CFR 1501.7 and 43 CFR 1610.2)

Theresa M. Hanley,
Acting BLM Montana/Dakotas State Director.

[FR Doc. 2022-06680 Filed 3-29-22; 8:45 am]

BILLING CODE 4310-DN-P